DEPARTMENT OF TRANSPORTATION

Federal Aviation Administration (FAA)

Notice of Opportunity for Public Comment on Surplus Property Release at Walterboro Municipal Airport, Walterboro, South Carolina

AGENCY: Federal Aviation Administration (FAA), DOT.

ACTION: Notice.

SUMMARY: Under the provisions of Title 49, U.S.C. section 47153(c), notice is being given that the FAA is considering a request from the City of Walterboro and Collection County to waive the requirement that a 2.0-acre parcel of surplus property, located at the Walterboro Municipal Airport, be used for aeronautical purposes.

DATES: Comments must be received on or before July 26, 2001.

ADDRESSES: Comments on this notice may be mailed or delivered in triplicate to the FAA at the following address: Atlanta Airports District Office, 1701 Columbia Ave., Suite 2-260, Atlanta, GA 30337-2747.

In addition, one copy of any comments submitted to the FAA must be mailed or delivered to L. Chriswell Bickley, Jr., of the Walterboro-Colleton County Airport Commission at the following address: P.O. Box 8, Walterboro, SC 29488.

FOR FURTHER INFORMATION CONTACT: Rusty Nealis, Program Manager, Atlanta Airports District Office, 1701 Columbia Ave., Suite 2-260, Atlanta, GA 30337-2747, (404) 305-7142. The application may be reviewed in person at this same location.

SUPPLEMENTARY INFORMATION: The FAA is reviewing a request by City of Walterboro and Colleton County to release 2.0 acres of surplus property at the Walterboro Municipal Airport. The property will be purchased by Marion R. Simmons, III and used to maintain adequate drainage control for Simmons Irrigation Company. The net proceeds from the sale of this property will be used for airport purposes. The proposed use of this property is compatible with airport operations.

Any person may inspect the request in person at the FAA office listed above under FOR FURTHER INFORMATION CONTACT. In addition, any person may, upon request, inspect the request, notice and other documents germane to the request in person at the Walterboro-Colleton County Airport Commission.

Issued in Atlanta, Georgia on June 12, 2001.
Scott L. Seritt,
Manager, Atlanta Airports District Office, Southern Region.

[FR Doc. 01-15989 Filed 6-25-01; 8:45 am]

BILLING CODE 4910-13-M